COMMISSION ON CIVIL RIGHTS

Sunshine Act Meetings

AGENCY: United States Commission on Civil Rights.

ACTION: Notice of Commission Telephonic Business Meeting.

DATES: Wednesday, October 3, 2018, 12:00 p.m. ET.

ADDRESSES: Meeting to take place by telephone.

FOR FURTHER INFORMATION CONTACT: Brian Walch, phone: (202) 376-8371; TTY: (202) 376-8116; email: publicaffairs@usccr.gov.

SUPPLEMENTARY INFORMATION: This business meeting is open to the public by telephone only.

Participant Access Instructions: Listen-Only, Toll Free: 1 (888) 811-5448; Conference ID: 305-5056. Please dial in 5-10 minutes prior to the start time.

Meeting Agenda

I. Approval of Agenda

II. Program Planning

• Discussion and Vote on Commission Report, Crisis of Conscience: The Broken Promises to Native Americans

• Discussion and Vote on Commission Findings and Recommendations, Crisis of Conscience: The Broken Promises to Native Americans

III. Adjourn Meeting

Dated: September 28, 2018.
Brian Walch,
Director, Communications and Public Engagement.

[FR Doc. 2018-21529 Filed 9-28-18; 11:15 am]

BILLING CODE 6335-01-P